FEDERAL EMERGENCY MANAGEMENT AGENCY

44 CFR Part 67

[Docket No. FEMA-B-7413]

Proposed Flood Elevation Determinations

AGENCY: Federal Emergency Management Agency (FEMA).

ACTION: Proposed rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq. Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
California | Lassen County (Unincorporated Areas) | Robbers Creek | At confluence with Robbers Creek Left Channel below Mill Pond | None | *5,047
|  |  | Approximately 250 feet upstream of State Highway 36 | None | *5,115
|  | Robbers Creek Left Channel Below Mill Pond | At confluence with Robbers Creek | None | *5,047
|  |  | At the Mill Pond Embankment (approximately 1,600 feet upstream of Delwood Street) | None | *5,064
|  | Robbers Creek Split Flow | At confluence with Robbers Creek | None | *5,062
|  |  | At divergence from Robbers Creek | None | *5,073
Maps are available for inspection at the Department of Community Development, 707 Nevada Street, Suite 5, Susanville, California.
Send comments to The Honorable Lloyd Keefer, Chairman, Lassen County Board of Supervisors, 221 N. Roop Street, Susanville, California 96130.
California | Placer County (Unincorporated Areas) | Miner's Ravine | Just upstream of Sierra College Blvd. | *246 | *251
|  |  | Just upstream of Miner's Ravine Road | *357 | *358
|  |  | Approximately 650 feet upstream of Newcastle Road | None | *784
Maps are available for inspection at the Placer County Public Works Department, 11444 B Avenue, Auburn, California.
Send comments to The Honorable Donald G. Lundsford, Placer County Executive Officer, 175 Fulweiler Avenue, Auburn, California 95603.
California | Portola (City) (Plumas County) | Portola Splitflow | At confluence with Portola Tributary | None | *4,873
|  |  | At divergence from Portola Tributary | None | *4,895
|  | Portola Tributary | At confluence with Middle Fork Feather River | None | *4,839
|  |  | Approximately 560 feet upstream of Ellen Avenue | None | *4,918
Maps are available for inspection at the Portola City Hall, 35 Third Avenue, Portola, California.
Send comments to The Honorable Bill Adamson, P.O. Box 1255, Portola, California 96122.
California | Plumas County (Unincorporated Areas) | Middle Fork Feather River | Just upstream of the Western Pacific Railroad Crossing | None | *4,819
|  |  | Approximately 4,500 feet upstream of confluence of Portola Tributary | None | *4,849
|  | Portola Tributary | Approximately 500 feet upstream of Ellen Avenue | None | *4,918
|  |  | Approximately 2,600 feet upstream of confluence of West Branch Portola Tributary | None | *5,076
|  | West Branch Portola Tributary | At confluence with Portola Tributary | None | *4,951
|  |  | Approximately 100 feet upstream of Deerweed Street | None | *5,036
Maps are available for inspection at the Plumas County Courthouse, 520 Main Street, Room 120, Quincy, California.
Send comments to The Honorable Donald Clark, Chairman, Plumas County Board of Supervisors, 520 Main Street, Room 309, Quincy, California 95971.
Montana | Cascade County (Unincorporated Areas) | Gibson Flats | At confluence with Sand Coulee Creek (North side of Railroad) | *3,351 | *3,352
|  |  | At divergence from Sand Coulee Creek | *3,358 | *3,361
|  | Sand Coulee Creek | Approximately 4,000 feet downstream of Goon Hill Road | *3,345 | *3,345
|  |  | Just upstream of Gibson Flats Road | *3,358 | *3,357
|  |  | Approximately 1,600 feet downstream of Blaine Street | *3,423 | *3,422
|  |  | Approximately 2,000 feet upstream of Brown Road | *3,448 | *3,448
|  | Sand Coulee Creek (North side of Railroad) | At confluence with Sand Coulee Creek (downstream) | *3,346 | *3,345
|  |  | At divergence from Sand Coulee Creek (upstream) | *3,355 | *3,354
|  | Sun River | At confluence with Missouri River | *3,319 | *3,319
|  |  | Approximately 1.5 miles upstream of Central Avenue West | *3,328 | *3,332
|  |  | Approximately 3,200 feet upstream of Manchester Bridge | *3,339 | *3,339
Maps are available for inspection at the Cascade County Planning Department, 415 Third Street, Northwest, Great Falls, Montana.
Send comments to The Honorable Peggy Beltrone, Chairperson, Cascade County Board of Supervisors, Room 111, Courthouse Annex, 325 Second Avenue North, Great Falls, Montana 59401.
Montana | Great Falls (City) (Cascade County) | Sun River | At confluence with Missouri River | *3,319 | *3,319
|  |  | Approximately 6,500 feet upstream of Interstate Highway 15 | *3,327 | *3,329
Maps are available for inspection at the Department of Zoning Administration, Two Park Drive South, Great Falls, Montana.
Send comments to The Honorable Randall H. Gray, Mayor, City of Great Falls, P.O. Box 5021, Great Falls, Montana 59403.
Oregon | Portland (City) (Multnomah County) | Fanno Creek | Approximately 2,350 feet downstream of Southwest 59th Avenue | None | *243
|  |  | Approximately 50 feet upstream of Southwest 45th Avenue | None | *281
Maps are available for inspection at City Hall, 1221 Southwest Fourth Avenue, Portland, Oregon.
Send comments to The Honorable Vera Katz, Mayor, 1221 Southwest Fourth Avenue, Room 340, Portland, Oregon 97204.
Texas | Beaumont (City) (Jefferson County) | Keith Ditch | Approximately 450 feet downstream of Dowlen Road | *22 | *22
|  |  | Approximately 1,400 feet upstream of Major Drive | None | *31
|  | Walker Branch | At dead-end of Debbie Drive | *21 | *22
|  |  | Just downstream of Tram Road | *24 | *24
|  | Walker Branch Tributary | Approximately 100 feet upstream of Tram Road | *22 | *22
|  |  | Approximately 1,000 feet upstream of Spurlock Road | None | *31
|  | Willow Marsh Bayou | Just upstream of Tyrell Park Road | *13 | *15
|  |  | Approximately 500 feet upstream of Interstate 10 | *16 | *17
Maps are available for inspection at City Hall, 801 Main Street, Beaumont, Texas.
Send comments to The Honorable David W. Moore, Mayor, City of Beaumont, P.O. Box 3827, Beaumont, Texas 77704.
Texas | Fort Bend County (Unincorporated Areas) | San Bernard River | Approximately 2 miles downstream of FM 442 | None | *64
|  |  | Approximately 2.25 miles upstream of the confluence with Snake Creek | None | *79
Maps are available for inspection at Fort Bend County Engineer's Office, 1124 Blume Road, Rosenberg, Texas.
Send comments to The Honorable James Adolphus, Fort Bend County Judge, 301 Jackson Street, Suite 719, Richmond, Texas 77469.
Texas | Jefferson County (Unincorporated Areas) | Bayou Din | Approximately 2,750 feet upstream of LaBelle Road | None | *9
|  |  | Approximately 6,100 feet upstream of Lawhorn Road | None | *31
|  | Bayou Din Tributary | Approximately 950 feet upstream of confluence with Bayou Din | *18 | *17
|  |  | Approximately 1,900 feet downstream of Highway 124 | None | *22
|  | Ditch 505 | Approximately 3,100 feet downstream of Route 124 | None | *13
|  |  | Approximately 4,700 feet upstream of West Clubb Road | None | *19
|  | Mayhaw Bayou | Approximately 6,700 feet downstream of Timber Road | None | *11
|  |  | Approximately 850 feet upstream of Interstate 10 | None | *22
|  | Mayhaw Bayou Tributary | At confluence with Mayhaw Bayou | None | *16
|  |  | Approximately 2,400 feet upstream of Brush Island Road | None | *19
|  | Quinn Ditch | Approximately 5,500 feet downstream of Tram Road | None | *22
|  |  | Approximately 100 feet upstream of Tram Road | None | *23
|  | Taylor Bayou | Approximately 11,000 feet downstream of LaBelle Road | None | *10
|  |  | Approximately 250 feet upstream of Jap Road | None | *11
|  | Tributary of Ditch 505 | At confluence with Ditch 505 | None | *17
|  |  | Approximately 2,000 feet upstream of West Clubb Road | None | *19
Maps are available for inspection at the Jefferson County Courthouse, 1149 Pearl Street, 5th Floor, Beaumont, Texas.
Send comments to The Honorable Carl R. Griffith, Jefferson County Judge, P.O. Box 4025, Beaumont, Texas 77704.
Texas | Wharton County (Unincorporated Areas) | East Fork Jones Creek | Approximately 800 feet upstream of FM 960 | None | *115
|  |  | Approximately 7,000 feet upstream of River Valley Road | None | *122
|  | East Mustang Creek | Approximately 1,800 feet downstream of confluence of Stage Stand Creek | None | *72
|  |  | Approximately 1,750 feet downstream of Stockton Road | None | *88
|  | San Bernard River | Approximately 10,000 feet downstream of FM 442 | None | *64
|  |  | At confluence of Peach Creek | None | *79
Maps are available for inspection at the Wharton County Engineer's Office, 1017 North Alabama, Wharton, Texas.
Send comments to The Honorable Lawrence C. Naiser, Wharton County Judge, Wharton County Courthouse, 103 South Fulton, Wharton, Texas 77188.

(Catalog of Federal Domestic Assistance No. 83.100, “Flood Insurance”)
Dated: April 18, 2001.
Margaret E. Lawless,
Acting Executive Associate Director for Mitigation.

[FR Doc. 01-10485 Filed 4-26-01; 8:45 am]

BILLING CODE 6718-04-P